DEPARTMENT OF TRANSPORTATION

Federal Aviation Administration

14 CFR Part 39

[Docket No. FAA-2012-0565; Directorate Identifier 2012-NE-16-AD; Amendment 39-17075; AD 2012-10-52]

RIN 2120-AA64

Airworthiness Directives; Hartzell Engine Technologies Turbochargers

AGENCY: Federal Aviation Administration (FAA), DOT.

ACTION: Final rule; request for comments.

SUMMARY: We are adopting a new airworthiness directive (AD) for Cessna 206, 207, and 210 airplanes with Hartzell Engine Technologies (HET) turbochargers, part numbers (P/Ns) 406610-0005 and 406610-9005, installed. This emergency AD was sent previously to all known U.S. owners and operators of these airplanes. This AD requires removing the affected turbochargers from service before further flight. This AD was prompted by a report of an HET turbocharger causing an engine in-flight power rollback. We are issuing this AD to prevent turbocharger bearing seizure, failed turbocharger components, and damage to the airplane.

DATES: This AD is effective June 26, 2012 to all persons except those persons to whom it was made immediately effective by Emergency AD 2012-10-52, issued on May 14, 2012, which contained the requirements of this amendment.

The Director of the Federal Register approved the incorporation by reference of a certain publication identified in the AD as of June 26, 2012.

We must receive comments on this AD by July 26, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Hartzell Engine Technologies, LLC, 2900 Selma Highway, Montgomery, AL 36108, phone: 334-386-5400; fax: 334-386-5450; internet: http://www.hartzellenginetech.com/service_bulletins.html#turbos.

Examining the AD Docket

You may examine the AD docket on the Internet at http://www.regulations.gov; or in person at the Docket Operations Office between 9 a.m. and 5 p.m., Monday through Friday, except Federal holidays. The AD docket contains this AD, the regulatory evaluation, any comments received, and other information. The street address for the Docket Operations Office (phone: 800-647-5527) is in the ADDRESSES section. Comments will be available in the AD docket shortly after receipt.

FOR FURTHER INFORMATION CONTACT: Christopher Richards, Aerospace Engineer, Chicago Aircraft Certification Office, FAA, 2300 E. Devon Ave., Des Plaines, IL 60018; phone: 847-294-7156; fax: 847-294-7834; email: christopher.j.richards@faa.gov.

SUPPLEMENTARY INFORMATION:

Discussion

On May 14, 2012, we issued Emergency AD 2012-10-52, which requires removing HET turbochargers, P/Ns 406610-0005 and 406610-9005, before further flight. This action was prompted by a report of an HET turbocharger causing an engine in-flight power rollback. Upon investigation, the turbocharger was found to have incorrectly located oil passages in the center housing, causing insufficient oil flow to the bearings. This condition, if not corrected, could result in turbocharger bearing seizure, failure of the turbocharger turbine shaft or wheel, and damage to the airplane.

Relevant Service Information

We reviewed Hartzell Engine Technologies Alert Service Bulletin (ASB) No. 047, dated May 8, 2012. The ASB indentifies the part numbers and serial numbers of affected turbochargers and describes procedures for removing them from service.

FAA's Determination

We are issuing this AD because we evaluated all the relevant information and determined the unsafe condition described previously is likely to exist or develop in other turbochargers of the same design. We are evaluating whether the affected population needs to expand to include supplemental type certificate and parts manufacturer approval installations and may take further action.

AD Requirements

This AD requires removing the affected turbochargers from service before further flight.

Minor Clarification

In the previously sent emergency AD, applicability paragraph (c)(2) inadvertently stated “Turbochargers with P/N 406610-0005 or P/N 406610-9005 overhauled or repaired on or later than January 1, 2012, with the same turbocharger center housing P/N and date code H-0112.” That paragraph in this AD is clarified to state “Turbochargers with P/N 406610-0005 or P/N 406610-9005 overhauled or repaired on or later than January 1, 2012, with turbocharger center housing P/N 409836-0005 and date code H-0112.” Applicability paragraph (c)(3) of the previously sent emergency AD, referenced this same turbocharger center housing P/N, which also needs to be referenced in paragraph (c)(2).

FAA's Determination of the Effective Date

An unsafe condition exists that requires the immediate adoption of this AD. The FAA has found that the risk to the flying public justifies waiving notice and comment prior to adoption of this rule because the affected turbochargers need to be removed from service before further flight. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2012-0565 and Directorate Identifier 2012-NE-16-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 80 airplanes of U.S. registry with affected turbochargers installed. We also estimate that it will take about 4 work-hours to remove a turbocharger from service. The average labor rate is $85 per work-hour. Based on these figures, we estimate the total cost of the AD to U.S. operators to be $27,200.

Authority for This Rulemaking

Title 49 of the United States Code specifies the FAA's authority to issue rules on aviation safety. Subtitle I, section 106, describes the authority of the FAA Administrator. Subtitle VII: Aviation Programs describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-10-52 Hartzell Engine Technologies: Amendment 39-17075; Docket No. FAA-2012-0565; Directorate Identifier 2012-NE-16-AD.

(a) Effective Date

This AD is effective June 26, 2012 to all persons except those persons to whom it was made immediately effective by Emergency AD 2012-10-52 issued on May 14, 2012, which contained the requirements of this amendment.

(b) Affected ADs

None.

(c) Applicability

This emergency AD applies to the following Hartzell Engine Technologies (HET) turbochargers:

(1) Turbocharger HET part number (P/N) 406610-0005 or P/N 406610-9005 with serial numbers listed in Table 1 of HET Alert Service Bulletin No. 047, dated May 8, 2012.

(2) Turbochargers with P/N 406610-0005 or P/N 406610-9005 overhauled or repaired on or later than January 1, 2012, with turbocharger center housing P/N 409836-0005 and date code H-0112.

(3) Turbocharger center housings P/N 409836-0005 sold as piece parts which are in field/distributor inventory with date code H-0112.

These turbochargers are installed on, but not limited to, Cessna 206, 207, and 210 airplanes with Continental Motors, Inc TSIO-520-C, -G, -H, -M, and -R reciprocating engines installed.

(d) Unsafe Condition

This AD was prompted by a report of an HET turbocharger causing an engine in-flight power rollback. Upon investigation, the turbocharger was found to have incorrectly located oil passages in the center housing, causing insufficient oil flow to the bearings. This condition, if not corrected, could result in turbocharger bearing seizure, failure of the turbocharger turbine shaft or wheel, and damage to the airplane. We are issuing this AD to prevent turbocharger bearing seizure, failed turbocharger components, and damage to the airplane.

(e) Compliance

Before further flight, remove from service the turbochargers identified in paragraph (c) of this emergency AD, unless already done.

(f) Special Flight Permit

Special flight permits are prohibited.

(g) Alternative Methods of Compliance (AMOCs)

The Manager, Chicago Aircraft Certification Office, FAA, may approve AMOCs for this AD. Use the procedures found in 14 CFR 39.19 to make your request.

(h) Related Information

For more information about this AD, contact Christopher Richards, Aerospace Engineer, Chicago Aircraft Certification Office, FAA, 2300 E. Devon Ave., Des Plaines, IL 60018; phone: 847-294-7156; fax: 847-294-7834; email: christopher.j.richards@faa.gov.

(i) Material Incorporated by Reference

(1) The Director of the Federal Register approved the incorporation by reference (IBR) under 5 U.S.C. 552(a) and 1 CFR part 51 of the following service information on the date specified. You must use the following service information to do the actions required by this AD, unless the AD specifies otherwise.

(2) Hartzell Engine Technologies Alert Service Bulletin No. 047, dated May 8, 2012.

(3) For service information identified in this AD, contact Hartzell Engine Technologies, LLC, 2900 Selma Highway, Montgomery, AL 36108, phone: 334-386-5400; fax: 334-386-5450; internet: http://www.hartzellenginetech.com/service_bulletins.html#turbos.

(4) You may review copies of the service information at the FAA, 12 New England Executive Park, Burlington, MA. For information on the availability of this material at the FAA, call 781-238-7125.

(5) You may also review copies of the service information that is incorporated by reference at the National Archives and Records Administration (NARA). For information on the availability of this material at NARA, call 202-741-6030, or go to: http://www.archives.gov/federal-register/cfr/ibr_locations.html.

Issued in Burlington, Massachusetts, on May 30, 2012.
Peter A. White,
Manager, Engine & Propeller Directorate, Aircraft Certification Service.

[FR Doc. 2012-13855 Filed 6-8-12; 8:45 am]

BILLING CODE 4910-13-P